DEPARTMENT OF COMMERCE

National Oceanic and Atmospheric Administration

RIN 0648-XF041

North Pacific Fishery Management Council; Public Meeting

AGENCY: National Marine Fisheries Service (NMFS), National Oceanic and Atmospheric Administration (NOAA), Commerce.

ACTION: Notice of public meetings.

SUMMARY: The North Pacific Fishery Management Council (Council) and its advisory committees will meet December 6 through December 14, 2016 in Anchorage, AK.

DATES: The Council and its advisory committees will hold meetings Tuesday, December 6 through Wednesday, December 14, 2016. See SUPPLEMENTARY INFORMATION for specific dates and times.

ADDRESSES: The meeting will be held at the Anchorage Hilton Hotel, 500 W. 3rd Ave., Anchorage, AK 99501.

Council address: North Pacific Fishery Management Council, 605 W. 4th Ave., Suite 306, Anchorage, AK 99501-2252; telephone: (907) 271-2809.

FOR FURTHER INFORMATION CONTACT: David Witherell, Council staff; telephone: (907) 271-2809.

SUPPLEMENTARY INFORMATION: The Council will begin its plenary session at 8 a.m. in the Aleutian Room on Thursday, December 8, continuing through Wednesday, December 14, 2016. The Scientific and Statistical Committee (SSC) will begin at 8 a.m. in the King Salmon/Iliamna Room on Tuesday, December 6 and continue through Friday December 9, 2016. The Council's Advisory Panel (AP) will begin at 8 a.m. in the Dillingham/Katmai Room on Wednesday December 7, and continue through Sunday, December 11, 2016. The Charter Halibut Management Committee will meet on Tuesday, December 6, 2016 (room to be determined) from 9 a.m. to 12 p.m. The Recreational Quota Entity Committee will meet on Tuesday, December 6, 2016, from 1 p.m. to 5 p.m. (room to be determined). The Ecosystem Committee will meet on Wednesday, December 7, 2016, from 9 a.m. to 12 p.m. (room to be determined). The Enforcement Committee will meet on Wednesday, December 7, 2016, from 1 p.m. to 4 p.m. (room to be determined).

Agenda

Tuesday, December 6, 2016 through Wednesday, December 14, 2016

Council Plenary Session: The agenda for the Council's plenary session will include the following issues. The Council may take appropriate action on any of the issues identified.

(1) Executive Director's Report

(2) NMFS Management Report (including update on 2017 Observer ADP)

(3) ADF&G Report

(4) NOAA Enforcement Report

(5) USCG Report

(6) USFWS Report

(7) Protected Species Report

(8) IPHC Report (T)

(9) 2017 Charter Halibut Management Measures

(10) Charter Halibut Permit Leasing

(11) Charter Halibut RQE Program

(12) Am 80 Halibut PSC Measures

(13) EFP-1 (interim report on halibut deck sorting)

(14) BSAI Groundfish Harvest Specifications

(15) GOA Groundfish Harvest Specifications

(16) EFP-2 (review application for RKC Savings Area)

(17) Electronic Monitoring Integration

(18) GOA Trawl Bycatch Management

(19) EFH Effects of Fishing Criteria

(20) EFH Non-Fishing Effects Report

(21) EFP-3 (final report on salmon excluder EFP)

(22) Staff Tasking

The Advisory Panel will address most of the same agenda issues as the Council except B reports.

The SSC agenda will include the following issues:

(1) BSAI Crab Harvest Specifications

(2) GOA Harvest Specifications

(3) EFH Effects of Fishing Criteria

(4) EFP-2 (review application for RKC Savings Area)

In addition to providing ongoing scientific advice for fishery management decisions, the SSC functions as the Councils primary peer review panel for scientific information as described by the Magnuson-Stevens Act section 302(g)(1)(e), and the National Standard 2 guidelines (78 FR 43066). The peer review process is also deemed to satisfy the requirements of the Information Quality Act, including the OMB Peer Review Bulletin guidelines.

The Agenda is subject to change, and the latest version will be posted at http://www.npfmc.org/.

Special Accommodations

These meetings are physically accessible to people with disabilities. Requests for sign language interpretation or other auxiliary aids should be directed to Shannon Gleason at (907) 271-2809 at least 7 working days prior to the meeting date.

Dated: November 10, 2016.
Tracey L. Thompson,
Acting Deputy Director, Office of Sustainable Fisheries, National Marine Fisheries Service.

[FR Doc. 2016-27495 Filed 11-15-16; 8:45 am]

BILLING CODE 3510-22-P